DEPARTMENT OF STATE

[Public Notice: 12899]

Foreign Terrorist Organization Designation of Lebanese Muslim Brotherhood

Based upon a review of the Administrative Record assembled in this matter, and in consultation with the Attorney General and the Secretary of the Treasury, I have concluded that there is a sufficient factual basis to find that the relevant circumstances described in section 219 of the Immigration and Nationality Act, as amended (hereinafter “INA”) (8 U.S.C. 1189), exist with respect to: Lebanese Muslim Brotherhood (also known as al-Jamaa al-Islamiyah, Jamaa Islamiya, al-Jamaah al-Islamiyah, Jama'a Islamiyah, Jamaa Islamiyah, Lebanese Muslim Brotherhood, The Islamic Group, Islamic Group in Lebanon, al-Fajr Forces, The Fajr Forces, al-Fajer Forces, The Dawn Forces, Quwat al-Fajr).

Therefore, I hereby designate the aforementioned organization and its respective aliases as a Foreign Terrorist Organization pursuant to section 219 of the INA.

This determination shall be published in the Federal Register. The designation goes into effect upon publication.

Dated: December 19, 2025.
Marco Rubio,
Secretary of State.

[FR Doc. 2026-00573 Filed 1-13-26; 8:45 am]

BILLING CODE 4710-AD-P